Title 3—

The President

Notice of September 12, 2002

Continuation of the National Emergency with Respect to Certain Terrorist Attacks

In accordance with section 202(d) of the National Emergencies Act (50 U.S.C. 1622(d)), I am continuing for 1 year the national emergency I declared on September 14, 2001, in Proclamation 7463, with respect to the terrorist attacks at the World Trade Center, New York, New York, and the Pentagon, and the continuing and immediate threat of further attacks on the United States.

By Executive Order 13223 of September 14, 2001, and Executive Order 13253 of January 16, 2002, I delegated authority to the Secretary of Defense and the Secretary of Transportation to order members of the Reserve Components to active duty and to waive certain statutory military personnel requirements. By Executive Order 13235 of November 16, 2001, I delegated authority to the Secretary of Defense to exercise certain emergency construction authority.

Because the terrorist threat continues, the national emergency declared on September 14, 2001, and the measures taken on September 14, 2001, November 16, 2001, and January 16, 2002, to deal with that emergency, must continue in effect beyond September 14, 2002. Therefore, I am continuing in effect for 1 year the national emergency I declared on September 14, 2001, with respect to the terrorist threat.

This notice shall be published in the Federal Register and transmitted to the Congress.

B

THE WHITE HOUSE,

September 12, 2002.

[FR Doc. 02-23581

Filed 9-12-02; 11:59 am]

Billing code 3195-01-P